DEPARTMENT OF HOMELAND SECURITY

Coast Guard

33 CFR Part 181

[Docket No. USCG-2007-29236]

Hull Identification Numbers for Recreational Vessels

AGENCY: Coast Guard, DHS.

ACTION: Request for public comments.

SUMMARY: The Coast Guard announces it is again requesting comments on the costs and benefits of expanding the existing 12-character Hull Identification Number (HIN) in order to provide additional information identifying vessels. The Coast Guard requests public comments on this issue and on the specific questions in this Notice.

DATES: Comments and related material must reach the Docket Management Facility on or before June 16, 2008.

ADDRESSES: You may submit comments identified by Coast Guard docket number USCG-2007-29236 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this notice, call Philip Cappel, Office of Boating Safety, Recreational Boating Product Assurance Division, Coast Guard, telephone 202-372-1076. If you have questions on viewing or submitting material to the docket, call Renee V. Wright, Program Manager, Docket Operations, telephone 202-366-9826.

SUPPLEMENTARY INFORMATION:

Public Participation and Request for Comments

We encourage you to submit comments and related material on this notice. All comments received will be posted, without change, to http://www.regulations.gov and will include any personal information you have provided. We have an agreement with the Department of Transportation (DOT) to use the Docket Management Facility. Please see DOT's “Privacy Act” paragraph below.

Submitting comments: If you submit a comment, please include the docket number for this notice (USCG-2007-29236), and give the reason for each comment. You may submit your comments and material by electronic means, mail, fax, or delivery to the Docket Management Facility at the address under ADDRESSES; but please submit your comments and material by only one means. We recommend that you include your name and a mailing address, an e-mail address, or a phone number in the body of your document so that we can contact you if we have questions regarding your submission. For example, we may ask you to resubmit your comment if we are not be able to read your original submission. If you submit them by mail or delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://www.regulations.gov at any time, click on “Search for Dockets,” and enter the docket number for this notice (USCG-2007-29236) in the Docket ID box, and click enter. You may also visit the Docket Management Facility in Room W12-140 on the ground floor of the DOT West Building, 1200 New Jersey Avenue, SE., Washington, DC 20590, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Background and Purpose

The existing Hull Identification Number (HIN) is a unique 12-character serial number required on each recreational vessel manufactured in or imported into the United States for the purposes of sale. The Coast Guard assigns the first three characters, a Manufacturer Identification Code (MIC), which identifies the manufacturer or importer; characters four through eight are a manufacturer serial number; characters nine and ten indicate date of certification for vessels subject to safety standards or the date of manufacture for vessels not subject to standards; and characters eleven and twelve indicate the model year.

The proposed expanded HIN would consist of five additional characters. Four of the additional characters would indicate length, hull material, principal means of propulsion, and vessel type. The fifth additional character would be a check digit. The expanded HIN with its check digit would reflect additional information useful to law enforcement authorities, marine bankers, marine insurers, boating accident data analysts, and marine investigators, and also provide a useful means of identifying vessels in the Vessel Identification System (VIS). The VIS is only applicable to recreational vessels that are registered by a State (see 33 CFR 187.3).

The Secretary of the Department of Homeland Security is required to establish the VIS (46 U.S.C. chapters 125, 131 & 313) for use by the public and law enforcement officials. The Secretary has delegated to the Commandant, U.S. Coast Guard, the authority to implement VIS. VIS will provide a nationwide pool of vessel and vessel owner information that will help in the identification and recovery of stolen vessels, deter vessel theft, and will aid in homeland security.

Regulatory History

We published a Request for Comments in the Federal Register on November 16, 1998 (63 FR 63638), soliciting comments on: (1) The expected benefits of an expanded HIN with vessel-specific characters and a check digit; (2) the manner in which the Coast Guard should exempt small entities and the builders of high-volume, low-cost vessels, such as canoes, kayaks, and inflatables; and (3) the estimated burdens and costs to boat manufacturers if the HIN regulations were revised to require vessel-specific characters and a check digit. The comment period closed on February 16, 1999.

We received 31 comments, only one of which contained any economic data that could be used to determine the benefits of a requirement for an expanded HIN containing vessel-specific characters and a check digit. Only four comments were in favor of allowing exceptions for small entities and the builders of high-volume, low-cost vessels, such as canoes, kayaks, and inflatable boats. None of the comments contained information about the estimated burdens and costs to boat manufacturers.

Discussion

States, bankers, insurers, and theft and accident investigators favor an expanded format. With vessel-specific characters and a check digit it would deter both vessel theft and the alteration of HIN's for fraudulent purposes and could allow for more in-depth analysis of accident data. In addition, there are other people who favor the existing 12-character HIN format.

A rulemaking to increase the number of characters in the HIN to include vessel-specific information could aid in the recovery of stolen vessels, reduce fraud, improve the accuracy of accident data analysis, and help in the remote identification of a “suspect” vessel. In addition there may be other benefits associated with expanding the existing 12-character HIN to include certain vessel-specific information.

Investigations of lost and stolen vessels depend, in large part, on the proper authorities' ability to identify a vessel. The proposed regulations would aid in this pursuit by expanding the current 12-character HIN to include detailed information about each vessel.

In addition, a check digit in the expanded HIN would make alteration of an HIN more difficult thereby helping to prevent fraud in the sale of vessels.

Boating accident statistics are compiled annually by the Coast Guard from data received from the States and territories through the Boating Accident Report Database (BARD). These statistics are analyzed to, among other uses, determine the different causes of accidents and what course(s) of action, if any, may be taken by the Boating Safety Program to reduce the number of accidents. The accident analyses, however, have been hindered by the lack of specific descriptive information regarding the vessels involved in the accidents and/or the inaccuracy of the vessel descriptive data provided in the BARD system. Boating accident reports are submitted by the owner/operator of the vessel or, in the case of serious accidents, by an investigating officer. Since the accident information is being provided by thousands of different individuals the reports may not always be accurate as to the exact description of the vessel, which leads to inaccuracies in the analyses of the accident database. A 17-character HIN with the additional descriptors built into the HIN is expected to improve both the scope and the accuracy of the data analyses.

Adding vessel description information to the HIN could also improve the personal safety of State water patrol officers by enabling them, prior to boarding a vessel, through the use of computer lookup of the vessel registration number, to get an accurate description of the vessel via the HIN and alert them to approach with caution if the description does not match the vessel they are planning to board.

However, the Coast Guard lacks detailed information about the anticipated costs and benefits of the expanded HIN format. Also, we still believe that, if an expanded HIN format, consisting of vessel-specific characters and a check digit, is adopted, the Coast Guard should be allowed to except manufacturers that are small business entities, and manufacturers of high-volume, low-cost vessels to minimize costs and information collection burdens.

Federal agencies with regulatory programs are subject to regulations implementing the Paperwork Reduction Act which are enforced by the Office of Management and Budget (OMB). The intent of the Act is to ensure that the Federal Government imposes only the minimum burden on the public in collecting information and requiring the maintenance of records, and that the information collected or maintained is necessary and useful. A regulation requiring manufacturers to display labels, such as HIN's, is an example of a collection of information requirement.

The Coast Guard encourages you to comment on: (1) The expected benefits and costs of an expanded Hull Identification Number with vessel-specific characters and a check digit; (2) the manner in which the Coast Guard should except small entities and the builders of high-volume, low-cost vessels, such as canoes, kayaks, and inflatables; (3) the estimated collection of information burdens to boat manufacturers if the current 12-character HIN regulation were revised to require additional vessel-specific characters and a check digit; and (4) possible alternatives to an expanded HIN.

Data is needed to support a decision-making process. Therefore we particularly need your help in answering any of the following questions (please provide arguments or data to support each answer):

1. What are the expected benefits if the HIN on a vessel included vessel-specific characters (e.g. vessel length, hull material, means of propulsion, boat type, and check digit)?

2. What are the estimated numbers of thefts that might be prevented?

3. What are the estimated numbers of additional lost or stolen vessels that might be recovered?

4. What is the estimated value of insurance company losses that might be prevented?

5. What are the estimated numbers of fraud attempts that might be prevented?

6. What are the estimated reductions in investigatory expenditures?

7. What are the expected benefits from improved accident data analyses?

8. How long will it take and what will it cost to determine a 17-character HIN?

9. How long will it take and what will it cost to affix a 17-character HIN to the hull of a vessel?

10. What are the measurable resources such as labor and capital that you would include in a cost-benefit analysis of a 17-character HIN implementation?

11. Should the Coast Guard consider excepting all builders of non-powered vessels?

12. Should the Coast Guard consider excepting manufacturers of boats that sell for less than a certain dollar value?

13. What alternatives are available that would reduce adverse impacts on small entities and builders of high-volume, low-cost vessels?

14. Should the Coast Guard consider a phase-in period for compliance with a 17-character HIN regulation? What time frame would be appropriate?

15. What are effective alternatives to a 17-character HIN? Examples could include the following:

a. Leave the current 12-character HIN as is.

b. Implement the Vessel Identification System in lieu of implementing a 17-character HIN.

c. Develop a regulation requiring uniform State titling/registration policies.

d. Develop a regulation requiring a uniform method to affix the HIN that would reduce the likelihood of tampering.

e. Increase security around shore and harbor facilities (more officers, tracking/monitoring devices).

f. Require other security measures during vessel construction, such as barcode HINs, radio frequency identification tags, etc.

Dated: March 7, 2008.
James A. Watson,
Rear Admiral (Lower Half), U.S. Coast Guard, Director of Prevention Policy.

[FR Doc. E8-5326 Filed 3-14-08; 8:45 am]

BILLING CODE 4910-15-P